DEPARTMENT OF ENERGY

Federal Energy Regulatory Commission

Notice of FERC Staff Attendance at PJM-MISO Joint and Common Market Stakeholder Working Group Meeting

May 24, 2005.

The Federal Energy Regulatory Commission hereby gives notice that members of its staff may attend the meeting of the PJM Interconnection, LLC-Midwest Independent Transmission System Operator, Inc. (PJM-MISO) stakeholders noted below, where the stakeholders are expected to discuss the implementation of the PJM-MISO joint and common market. The staff's attendance is part of the Commission's ongoing outreach efforts.

PJM-MISO Joint and Common Market Stakeholder Meeting June 2, 2005, 10 a.m.-3 p.m. Wyndham Hotel, 700 King Street, Wilmington, DE 19801, (302) 655-0400.

The discussions may address matters at issue in the following proceedings:

Docket Nos. ER04-106-000, ER04-691-000 and EL04-104-000, Midwest Independent Transmission System Operator, Inc., et al.

Docket No. RT01-87-000, et al., Midwest Independent Transmission System Operator, Inc.

Docket No. ER04-375-000, Midwest Independent Transmission System Operator, Inc., et al.

Docket No. ER02-2595-000, et al., Midwest Independent Transmission System Operator, Inc.

Docket No. ER05-802-000, Midwest Independent Transmission System Operator, Inc.

Docket No. ER05-794-000, Midwest Independent Transmission System Operator, Inc.

Docket No. ER05-809-000, Midwest Independent Transmission System Operator, Inc.

Docket No. ER05-944-000, Midwest Independent Transmission System Operator, Inc.

Docket No. ER05-932-000, Midwest Independent Transmission System Operator, Inc.

Docket No. ER05-752-000, Midwest Independent Transmission System Operator, Inc.

Docket No. ER05-560, et. al., Midwest Independent Transmission System Operator, Inc.

Docket No. ER05-6-000, et al., Midwest Independent Transmission System Operator, Inc.

Docket No. ER03-1312-000, Midwest Independent Transmission System Operator, Inc.

Docket No. ER04-458-000, Midwest Independent Transmission System Operator, Inc.

Docket No. EL05-103-000, Northern Indiana Public Service Co. v. Midwest Independent Transmission System Operator, Inc. and PJM Interconnection L.L.C.

Docket No. EL05-82-000, Alliant Energy Corporation Services, Inc. v. Midwest Independent Transmission System Operator, Inc.

Docket No. EL05-51-000, Wisconsin Public Service Corporation v. Midwest Independent Transmission System Operator, Inc.

Docket Nos. EL04-43-000 and EL04-46-000, Tenaska Power Services Co. and Cargill Power Markets, LLC v. Midwest Independent Transmission System Operator, Inc.

Docket No. PL05-7-000, PJM Interconnection L.L.C.

Docket No. ER03-262-000, PJM Interconnection L.L.C.

Docket No. ER04-608-000, PJM Interconnection L.L.C.

Docket No. ER05-626-000, PJM Interconnection L.L.C.

Docket No. ER99-2028-000, PJM Interconnection L.L.C.

Docket No. ER04-457-000, PJM Interconnection L.L.C.

Docket No. ER05-10-000, PJM Interconnection L.L.C.

Docket No. RT01-2-000, PJM Interconnection L.L.C.

Docket No. RT01-98-000, PJM Interconnection L.L.C.

Docket No. EL03-236-000, PJM Interconnection L.L.C.

Docket No. EL04-121-000, PJM Interconnection L.L.C.

Docket No. EL05-60-000, PJM Interconnection L.L.C.

Docket No. ER02-1326-000, PJM Interconnection L.L.C.

Docket No. ER03-1101-000, PJM Interconnection L.L.C.

Docket No. ER04-1068-000, PJM Interconnection L.L.C.

Docket No. ER04-1074-000, PJM Interconnection L.L.C.

Docket No. ER04-521-000, PJM Interconnection L.L.C.

Docket No. ER04-539-000, PJM Interconnection L.L.C.

Docket No. ER04-776-000, PJM Interconnection L.L.C.

Docket No. ER05-106-000, PJM Interconnection L.L.C.

Docket No. ER05-488-000, PJM Interconnection L.L.C.

Docket No. ER05-513-000, PJM Interconnection L.L.C.

Docket No. ER05-515-000, PJM Interconnection L.L.C.

Docket No. ER05-913-000, PJM Interconnection L.L.C.

Docket No. ER04-367-000, PJM Interconnection L.L.C.

Docket No. EL04-105-000, PJM Interconnection L.L.C.

Docket No. ER04-829-000, PJM Interconnection L.L.C.

Docket No. EL05-93-000, PJM Interconnection L.L.C.

The meeting is open to the public.

For more information, contact Zeny Magos, Office of Markets, Tariffs and Rates, Federal Energy Regulatory Commission at (202) 502-8244 or zeny.magos@ferc.gov.

Magalie R. Salas,
Secretary.

[FR Doc. E5-2760 Filed 5-31-05; 8:45 am]

BILLING CODE 6717-01-P